DEPARTMENT OF TRANSPORTATION

Federal Aviation Administration

14 CFR Part 73

[Docket No. FAA-2008-0628; Airspace Docket No. 07-ASW-15]

RIN 2120-AA66

Revision of Restricted Area 5107A; White Sands Missile Range, NM

AGENCY: Federal Aviation Administration (FAA), DOT.

ACTION: Final rule.

SUMMARY: This action revises Restricted Area 5107A (R-5107A), White Sands Missile Range, NM, by subdividing the area to reduce the size of R-5107A, and establish R-5107K. Together, R-5107A and R-5107K will occupy the same vertical, but slightly smaller lateral area than the existing R-5107A. The FAA is taking this action in response to a request from the United States (U.S.) Army to divide the existing R-5107A into two restricted areas, R-5107A and R-5107K. This action will fulfill Department of Defense training requirements while freeing unused airspace for use by nonparticipating civil aircraft. Additionally, this action will allow the U.S. Army to activate only that portion of the airspace necessary to contain their operations.

DATES: Effective Date: 0901 UTC, September 25, 2008.

FOR FURTHER INFORMATION CONTACT: Kelly Neubecker, Airspace and Rules Group, Office of System Operations Airspace and AIM, Federal Aviation Administration, 800 Independence Avenue, SW., Washington, DC 20591; telephone: (202) 267-8783.

SUPPLEMENTARY INFORMATION:

History

On August 28, 2007, the U.S. Army requested the FAA take action to modify R-5107A, White Sands Missile Range, NM, by subdividing the area to reduce the size of R-5107A and establish R-5107K. The U.S. Army assessed the utilization of the existing R-5107A, and determined their operations are contained to the west side of War Highway 11, 70 to 90 percent of the time. The requested action makes the unused area available for use by nonparticipating civil aircraft. The U.S. Army has also determined that a small area at the northwest corner of the existing R-5107A is not needed and requested a boundary reduction. The subdivision of R-5107A, into R-5107A and R-5107K, will allow airspace managers the opportunity to return unused airspace east of War Highway 11 for use by nonparticipating civil aircraft during periods of inactivity.

The Rule

This action amends Title 14 Code of Federal Regulations (14 CFR) part 73 by revising R-5107A, White Sands Missile Range, NM, by dividing the area into 2 sub areas, R-5107A and R-5104K. Together, R-5107A and R-5107K will occupy the same vertical, but slightly smaller lateral area by eliminating the northwest corner of the existing R-5107A. Additionally, R-5107K will only be active 0700-2000 local time, Monday through Friday, rather than the current continuous time of designation. Since this action permits greater access to airspace by both Visual Flight Rules and Instrument Flight Rules aircraft during periods of activation of R-5107A and R-5107K, notice and public procedures under 5 U.S.C. 533(b) are unnecessary.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it amends restricted areas in New Mexico.

Environmental Review

The FAA has determined that this action qualifies for categorical exclusion under the National Environmental Policy Act in accordance with 311d., FAA Order 1050.1E, “Environmental Impacts: Policies and Procedures.” This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.51 [Amended]

2. § 73.51 is amended as follows:

* * * * *

R-5107A White Sands Missile Range, NM [Revised]

Boundaries. Beginning at lat. 32°19′30″ N., long. 106°34′02″ W.; to lat. 32°19′30″ N., long. 106°23′49″ W.; to lat. 32°14′33″ N., long. 106°23′46″ W.; to lat. 32°12′17″ N., long. 106°24′17″ W.; to lat. 32°08′51″ N., long. 106°30′01″ W.; to lat. 32°08′40″ N., long. 106°34′02″ W.; to the point of beginning.

* * * * *

R-5107K White Sands Missile Range, NM [New]

Boundaries. Beginning at lat. 32°19′30″ N., long. 106°23′49″ W.; to lat. 32°19′30″ N., long. 106°20′38″ W.; to lat. 32°24′48″ N., long. 106°09′02″ W.; to lat. 32°23′18″ N., long. 106°07′05″ W.; to lat. 32°05′00″ N., long. 106°18′22″ W.; to lat. 32°05′00″ N., long. 106°29′02″ W.; to lat. 32°06′20″ N., long. 106°34′02″ W.; to lat. 32°08′40″ N., long. 106°34′02″ W.; to lat. 32°08′51″ N., long. 106°30′01″ W.; to lat. 32°12′17″ N., long. 106°24′17″ W.; to lat. 32°14′33″ N., long. 106°23′46″ W.; to the point of beginning.

Designated altitudes. Surface to unlimited.

Time of designation. 0700-2000 local time, Monday-Friday, other times by NOTAM.

Controlling agency. FAA, Albuquerque, ARTCC.

Using agency. Commanding General, U.S. Army Air Defense Artillery Center and Fort Bliss Center, (USAADCENFB) Fort Bliss, TX.

* * * * *

Issued in Washington, DC, on August 14, 2008.
Edith V. Parish,
Manager, Airspace and Rules Group.

[FR Doc. E8-19271 Filed 8-19-08; 8:45 am]

BILLING CODE 4910-13-P